DEPARTMENT OF EDUCATION

[CFDA No. 84.234Q]

Projects With Industry; Notice Inviting Applications for New Awards for Fiscal Year (FY) 2002

Purpose of Program: The Projects With Industry (PWI) program creates and expands job and career opportunities for individuals with disabilities in the competitive labor market by engaging the talent and leadership of private industry as partners in the rehabilitation process. PWI projects identify competitive job and career opportunities and the skills needed to perform those jobs, create practical settings for job readiness and training programs, and provide job placements and career advancement services.

Eligible Applicants: Employers, nonprofit agencies or organizations, designated State units, labor unions, community rehabilitation program providers, trade associations, Indian tribes, tribal organizations, and other agencies or organizations with the capacity to create and expand job and career opportunities for individuals with disabilities.

In order to ensure an equitable distribution of funds among the States as required by statute, grant awards will be made only to organizations that provide job and career opportunities for individuals with disabilities within the State in which the organization is located. Only organizations that have the ability to directly receive the grant and directly carry out the project are eligible to apply.

Only applicants that propose to serve individuals with disabilities in States, portions of States, Indian tribes, or tribal organizations that are currently unserved or underserved by the PWI program may apply.

SUPPLEMENTARY INFORMATION: Funds under this competition will be used to support projects in FY 2002. The Assistant Secretary may consider funding approved applications submitted in FY 2002 to support projects in future years.

The Business Leadership Network (BLN), staffed by the U.S. Department of Labor, works to promote best practices in rehabilitation and to enhance opportunities for workers who are disabled. The BLN currently has programs in 30 States, the District of Columbia, and Puerto Rico. These programs operate independently of each other and focus on meeting the specific needs of the business community and State Government. Through BLNs, participating employers, in partnership with State Governor's Committee representatives and other community services professionals, identify specific hiring requirements of employers so that referral and placement services can be customized to meet those employers' needs. Applicants applying under the PWI program are encouraged to collaborate with their local BLN, if one has been established in the State, in order to expand services and employment opportunities to project participants. We believe that strong working relationships with local BLNs will expand the employer network available to projects and, as a result, increase employment opportunities for individuals with disabilities.

Applications Available: March 15, 2002.

Deadline for Transmittal of Applications: May 31, 2002.

Deadline for Intergovernmental Review: July 30, 2002.

Estimated Available Funds: $17,478,135.

Estimated Range of Awards: $175,000-$250,000.

Estimated Average Size of Awards: $221,200.

Estimated Number of Awards: 79.

Note: The Department is not bound by any estimates in this notice.

Project Period: Up to 36 months.

Applicable Regulations: (a) The Education Department General Administrative Regulations (EDGAR) in 34 CFR parts 74, 75, 77, 79, 80, 81, 82, 85, 86, 97, and 99; and (b) The regulations for this program in 34 CFR part 379.

Note: The regulations in 34 CFR part 79 apply to all applicants except federally recognized Indian tribes.

Note: The regulations in 34 CFR part 86 apply to institutions of higher education only.

Priorities: We are particularly interested in applications that meet one or more of the following invitational priorities.

Invitational Priority 1

Projects should demonstrate effective collaboration with the “One-Stop” service delivery system established under title I of the Workforce Investment Act of 1998, as amended (WIA), to assist individuals with disabilities to secure job skills training and employment opportunities in the competitive labor market. Proposed PWI service delivery models should promote the delivery of services to individuals with disabilities through local “One-Stop” centers. Proposed PWI service delivery models should investigate replicable innovative approaches to effective collaboration with the “One-Stop” service delivery system in placing individuals with disabilities into competitive employment. Applicants who wish to address this invitational priority may get further information about the “One-Stop” service delivery system by calling the Department of Labor (DOL) at (202) 693-2700 or visiting the DOL web site at: www.dol.gov/dol/allcfr/Title_20/Part_662/toc.htm

Invitational Priority 2

Projects should demonstrate the use of alternative work settings, such as flexiplace or telecommuting, to assist individuals with disabilities, especially individuals with significant disabilities, to secure job skills training and employment opportunities in the competitive labor market. Projects should investigate replicable innovative approaches in the use of alternative work settings. Projects also should demonstrate how these alternatives may increase the number of individuals with disabilities placed into competitive employment.

Invitational Priority 3

Projects should facilitate the school-to-work transition of students with disabilities. Projects should focus on placing youth with disabilities in employment with clearly defined career-path or career-advancement opportunities, or both. Projects also should investigate replicable innovative approaches that can be used to assist students in transition from school-to-work in obtaining competitive employment.

Invitational Priority 4

Projects should demonstrate how literacy services can assist PWI consumers with low literacy levels to obtain higher earnings in competitive employment. Proposed PWI service delivery models should investigate replicable innovative approaches that can be used to assist individuals to obtain higher quality jobs (e.g., jobs with higher wages and health insurance benefits). Projects should focus on enhancing collaboration between local Adult Education and Family Literacy (AEFL) programs, the primary resource for providing adult basic education (ABE) services, and Vocational Rehabilitation programs. This collaboration should include the provision of training, experience, or appropriate reasonable accommodations to AEFL or ABE programs to assist them in serving individuals with disabilities, particularly individuals with significant disabilities, and working cooperatively to share in the cost of training and placement.

Under 34 CFR 75.105(c)(1) we do not give an application that meets one or more of the invitational priorities a competitive or absolute preference over other applications.

Competitive Preference Priority

We give preference to applications that meet the competitive preference priority in the notice of final competitive preference for this program, published in the Federal Register on November 22, 2000 (65 FR 70408). Under 34 CFR 75.105(c)(2)(i) we award up to an additional 10 points to an application that is otherwise eligible for funding under this program. The maximum score under the selection criteria for this program is 100 points; however, we will also use the following competitive preference so that up to an additional 10 points may be earned by an applicant for a total possible score of 110 points.

Up to 10 points may be earned based on the extent to which an application includes effective strategies for employing and advancing in employment qualified individuals with disabilities as project employees in projects awarded under this program. In determining the effectiveness of those strategies, we will consider the applicant's prior success, as described in the application, in employing and advancing in employment qualified individuals with disabilities.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA No. 84.234Q.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

FOR FURTHER INFORMATION CONTACT: Kerrie Brown, Mary Jane Kane, Sonja Turner, or Lois Vaughan, U.S. Department of Education, 400 Maryland Avenue, SW., room 3329, Switzer Building, Washington, DC 20202. Telephone: (202) 401-9707 for Kerrie Brown; (202) 205-8484 for Mary Jane Kane; (202) 205-9396 for Sonja Turner; and (202) 205-8749 for Lois Vaughan. If you use a telecommunications device for the deaf (TDD), you may call the Federal Information Relay Service (FIRS) at 1-800-877-8339.

Individuals with disabilities may obtain this notice in an alternative format (e.g., Braille, large print, audiotape, or computer diskette) on request to the contact persons listed in the preceding paragraph.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 795 et seq.

Dated: March 11, 2002.
Loretta L. Petty,
Acting Assistant Secretary for Special Education and Rehabilitative Services.

[FR Doc. 02-6214 Filed 3-14-02; 8:45 am]

BILLING CODE 4000-01-P